DEPARTMENT OF COMMERCE

Foreign-Trade Zones Board

[B-68-2017]

Foreign-Trade Zone (FTZ) 241—Fort Lauderdale, Florida; Notification of Proposed Production Activity; Marine Industries Association of South Florida (Yacht Repair/Refitting), Fort Lauderdale, Florida

The City of Fort Lauderdale, grantee of FTZ 241, submitted a notification of proposed production activity to the FTZ Board on behalf of the Marine Industries Association of South Florida (MIASF), located in Fort Lauderdale, Florida. The notification conforming to the requirements of the regulations of the FTZ Board (15 CFR 400.22) was received on November 17, 2017.

MIASF's facilities are located within Subzone 241A. The facilities are used for yacht repair and refitting. Pursuant to 15 CFR 400.14(b), FTZ activity would be limited to the specific foreign-status materials and components and specific finished products described in the submitted notification (as described below) and subsequently authorized by the FTZ Board.

Production under FTZ procedures could exempt MIASF from customs duty payments on the foreign-status components used in export production (estimated 95 percent of production). On its domestic sales, for the foreign-status materials/components noted below, MIASF would be able to choose the duty rates during customs entry procedures that apply to yachts, inflatable boats, boat tenders, and outboard motor tenders (duty-rate ranges from 1% to 2.4%). MIASF would be able to avoid duty on foreign-status components which become scrap/waste. Customs duties also could possibly be deferred or reduced on foreign-status production equipment.

The components and materials sourced from abroad include: Diesel marine propulsion engines; fuel pumps; fuel coolers; oil pumps; oil coolers; fuel injectors; fuel injector pumps; heat exchangers for marine propulsion engines; fine mesh screen filters; cast iron cylinder liners; cylinder heads; pistons; piston rings; engine mounts; crank shafts; cam shafts; thrust bearings; linear bearings; seal kits; cylinder head gaskets; rubber hoses; aluminum piping; zinc anode kits; turbochargers; aluminum exhausts; rubber v-belts combined with textiles; air filters; thermostats; raw water pumps; valves; starters; alternators/generators; electric control boxes; sending units; sensors; instrument clusters; stainless steel propellers; brass propellers; stainless steel propeller shafts; brass propeller shafts; stainless steel couplings; brass spool pieces; stainless steel spool pieces; bushings for propeller shafts; gear boxes for propellers; gear box mounts; gear coolers; gear box pumps; shaft struts; strut bearings; heat exchangers for running gear; hydraulic valves; stainless steel sprayer rings for running gear; gear legs for bow thrusters; mounting hardware; hydraulic filters; power take offs for bow thrusters; electrical control heads for bow thrusters; marine steering systems; brass rudders; fiberglass rudders; stainless steel tie bars; rubber lined naval brass bearings; stainless steel quadrants; steel hydraulic fittings; rubber hydraulic hoses; hydraulic pumps; hydraulic rams; electrical power packs; marine stabilizers; hydraulic power packs; fins for stabilizers; gyroscopes; cabling; pulsation dampeners; marine generators; generator mounts; electrical wire windings; aluminum sound shields; fuel water separators; aluminum tank fittings; rubber gaskets; fresh water system; fresh water pumps; stainless steel water valves; copper water valves; freshwater maker units; hot water tanks; bath and sink taps/faucets; copper piping; lube oil systems; lubricating oil pumps; stainless steel flow control oil valves; fuel systems; fire control spray heads; fire and smoke detectors; ventilation systems; ceiling fans; wall fans; metal ducting; programmable logic controllers; dampeners; moisture eliminators; electrical systems; electrical wire-plastic covered copper; automatic circuit breakers; electric switches; surge suppressors; junction boxes and enclosures (electrical system); programmable logic controller modules; monitoring systems; lighting fixtures and lamp holders; light bulbs; compressors and pumps (air conditioning); copper evaporator coils; fan coil units and blowers; enclosures (shore power system); heat exchangers (air conditioning system); deck winches; captive winches; mast and exhaust stack outlets; hot tubs; swimming pools; aluminum booms; boom vang; aluminum masts; sails; aluminum spreaders; EC6 carbon rigging; aluminum solid rods; furlers; mandrels; yokes; bulb keels; fins for sailboats; stainless steel anchors; stainless steel chains for anchors; electric windlasses; stainless steel snubber hooks; life rafts; helm stations; double and single loudspeakers; davits; inflatable motorboats (tender); outboard motorboats (tender); spotlights; stainless steel fairleads; stainless steel bollards; stainless steel stanchions; synthetic fiber lifelines; inflatable water toys; water skies, surfboards and paddleboards; fuel spill kits; stainless steel tender chocks; boat dock fenders; safety equipment including life jackets and belts; stainless steel freeing port scuppers; outdoor cushions made of man-made fibers; awnings and canvas covers; helm screens; radars; control modules; automatic identification systems; global marine distress and safety systems; bridge computers; navigation software; vinyl helm or captain chairs; navigational charts; electronic components (navigational and radio aid); gyro compasses; satellite domes; communication domes; depth sounders; sonars; binoculars; wood laminate flooring; ceramic tile flooring; marble flooring; carpet flooring; textile and vinyl wall coverings; vinyl ceilings; refrigerators; microwave ovens; ovens and cooktops; toasters; water heaters; coffee makers; dishwashers; blinds; curtains; shades (window treatments); leather, polyester, polyurethane fabric, and PVC coated vinyl upholstery replacements; electric door closer; manual door hinges; self-enclosed saunas; elevators; dumb waiters; kitchen, bedroom, bathroom, and cabinetry hardware; wood veneers; desk and table lamp lighting; wall mounted lighting; soft furnishings including sofas, chairs, wood tables, wall units, bedroom sets, and mattresses; stainless steel cutlery; lead crystal glassware; glassware (other); bathroom and kitchen fixtures and fittings; toilets; marble countertops; bathtubs; shower enclosures; glass partitions; computer equipment racks; computers; programmable data communication processors; televisions; television lifts and enclosures; DVD players; digital movie and music storage; remote controls for electronics; digital media switches; IT switches; in room AV processors; infrared pick-ups; AC rack coolers; coaxial cabling; docking stations; video projectors; custom theater seating; sound installations; control pads; patch panels; grounding plates; aerial-antennas for radio reception; cell modules; lighting modules; mounting hardware; projector screens; internal and external communication telephone systems; cabling wire for telephone systems; steel sheets; aluminum sheets; aluminum profiles; carbon fiber sheets; glass reinforced plastic-fiberglass for repairs; epoxy fairing compound; polyurethane paint for yachts; enamel paint for yachts; and aliphatic hydrocarbon based anti-fouling paint (duty rate ranges from duty free to 22.5%).

The request indicates that thrust, linear, and strut bearings; naval brass bearings; steel sheets; aluminum sheets; aluminum profiles, and wood laminate flooring are subject to antidumping/countervailing duty (AD/CVD) orders when imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that the following components will be admitted to the zone in privileged foreign status (thereby precluding inverted tariff benefits on those components): Aluminum piping; rubber v-belts combined with textiles; gear box mounts; aluminum sound shields; aluminum tank fittings; aluminum booms; aluminum masts; aluminum spreaders; aluminum solid rods; synthetic fiber lifelines; awnings and canvas covers; carpet flooring; textile wall coverings; blinds; curtains; shades- window treatments; leather, polyester and polyurethane fabrics; PVC coated vinyl upholstery replacements; electric door closers; manual door hinges; kitchen, bedroom and bathroom cabinetry; cabinetry hardware; wood veneers; television lifts and enclosures; and, mounting hardware.

Public comment is invited from interested parties. Submissions shall be addressed to the Board's Executive Secretary at the address below. The closing period for their receipt is January 8, 2018.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Qahira El-Amin at Qahira.El-Amin@trade.gov or (202) 482-5928.

Dated: November 21, 2017.
Andrew McGilvray,
Executive Secretary.

[FR Doc. 2017-25656 Filed 11-27-17; 8:45 am]

BILLING CODE 3510-DS-P